NUCLEAR REGULATORY COMMISSION

[Docket No. 50-346]

Davis-Besse Nuclear Power Station; Notice of Withdrawal of Application for Amendment to Facility Operating License

The U.S. Nuclear Regulatory Commission (the Commission) has granted the request of FirstEnergy Nuclear Operating Company (the licensee) to withdraw its December 17, 2001, as supplemented by letter dated June 4, 2002, application for proposed amendment to Facility Operating License No. NPF-3 for the Davis-Besse Nuclear Power Station, Unit No. 1, located in Ottawa County, Ohio.

The proposed amendment would have modified the facility technical specifications (TS) pertaining to TS 3/4.3.1, “Reactor Protection System (RPS) Instrumentation,” to delete an Action involving either reducing core thermal power and the high neutron flux reactor trip setpoint, or monitoring quadrant power tilt when an RPS channel is inoperable. Additionally, changes were proposed to the content and format of TS Tables 3.3-1 and 4.3-1 to enhance TS clarity.

The Commission had previously issued a Notice of Consideration of Issuance of Amendment published in the Federal Register on November 25, 2003 (68 FR 66136). However, by letter dated November 26, 2003, the licensee withdrew the amendment request.

For further details with respect to this action, see the application for amendment dated December 17, 2001, as supplemented by letter dated June 4, 2002, and the licensee's letter dated November 26, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 5th day of January, 2004.
For the Nuclear Regulatory Commission.
Stephen P. Sands,
Project Manager, Section 2, Project Directorate III, Division of Licensing Project Management, Office of Nuclear Reactor Regulation.

[FR Doc. 04-679 Filed 1-12-04; 8:45 am]

BILLING CODE 7590-01-U